DEPARTMENT OF THE INTERIOR

National Park Service

30-Day Notice of Submission to Office of Management and Budget; Opportunity for Public Comment

AGENCY: Department of Interior, National Park Service.

ACTION: Notice and request for comments.

SUMMARY: Under the provisions of the Paperwork Reduction Act of 1995 (Public Law 104-13, 44 U.S.C. 3507) and 5 CFR part 1320, this notice announces the National Park Service's (NPS) intention to request an extension for eight currently approved information collections (ICR) for the Land and Water Conservation Fund (L&WCF) and Urban Park and Recreation Recovery (UPARR) grant programs.

1. L&WCF Description and Notification (DNF) Form. The DNF is necessary to provide data input into the NPS Automated Project information system which provides timely data on projects funded over the life of the L&WCF program.

2. L&WCF Program Performance Report. As required by OMB Circular A-102, grantees must submit performance reports which describe the status of the work required under the project scope.

3. L&WCF Project Agreement and Amendment Form. The Project Agreement and Amendment forms set forth the obligations assumed by the State through its acceptance of Federal assistance under the L&WCF Act and any special terms and conditions.

4. L&WCF On-Site Inspection Report. The On-Site Inspection Reports are used to ensure compliance by grantees with applicable Federal and program guidelines, and to ensure the continued viability of the funded site.

5. L&WCF Conversion of Use Provisions. To convert assisted sites to other than public outdoor recreation, L&WCF project sponsors must provide relevant information necessary to comply with Section 6(f)(3) of the L&WCF Act of 1965.

6. UPARR Project Performance Report. As required by OMB Circular A-102, grant recipients must submit performance reports which describe the status of the work required under the project scope.

7. UPARR Conversion of Use Provisions. To convert assisted sites to other than public recreation, UPARR project sponsors must provide relevant information necessary to comply with the Section 1010 of the UPARR Act of 1978.

8. UPARR Project Agreement and Amendment Form. The Project Agreement and Amendment Forms set forth the obligations assumed by grant recipients through their acceptance of Federal assistance under the UPARR Act and any special terms and conditions.

DATES: Public comments on these eight Information Collection Requests (ICRs) will be accepted on or before June 25, 2007.

ADDRESSES: You may submit comments directly to the Desk Officer for the Department of the Interior, Office of Information and Regulatory Affairs, OMB, by fax at 202/395-6566, or by electronic mail at oira_docket@omb.eop.gov. Please also send a copy of your comments to Michael D. Wilson, Chief, State and Local Assistance Programs Division, NPS (2225), 1849 C St., NW., Washington, DC 20240, or electronically to michael_d_wilson@nps.gov.

FOR FURTHER INFORMATION CONTACT: Sylvia H. Wood, Outdoor Recreation Planner, State and Local Assistance Programs Division, 1849 C St., NW., (2225), Washington, DC 20240, or via phone at 202/354-6914, via e-mail at sylvia_wood@nps.gov, or via fax at 202/354-6900. You are entitled to a copy of the entire ICR package free of charge.

Comments Received on the 60-Day Federal Register Notice: The NPS published the 60-Day Federal Register Notice to solicit comments on these proposed ICRs on March 14, 2007, on pages 11899-11900. There were no public comments received as a result of publishing this 60-Day Federal Register Notice.

SUPPLEMENTARY INFORMATION: Expiration Dates: May 31, 2007 & September 30, 2007.

Type of Request: Extension of currently approved information collections.

Title: L&WCF Description and Notification Form (DNF).

Form: NPS 10-903.

OMB Number: 1024-0031.

Expiration Date: May 31, 2007.

Type of request: Data Input.

Description of need: Provision of computer data.

Frequency of collection: On occasion.

Description of respondents: State Governments, DC and Territories.

Estimated average number of respondents: 56 per year.

Estimated average number of responses: 450 year.

Estimated average time burden per respondent: 1 hour.

Frequency of response: 8 per respondent.

Estimated total annual reporting burden: 450 hours.

Title: L&WCF Program Performance Report.

Form: None.

OMB Number: 1024-0032.

Expiration Date: May 31, 2007.

Type of request: Performance Report describing project status.

Descripton on need: For monitoring project status.

Frequency of collection: On occasion.

Description of respondents: State Government, DC and Territories.

Estimated average number of respondents: 56 per year.

Estimated average number of responses: 700 per year.

Estimated average time burden per response: 1 hour.

Frequency of response: 12.5 per respondent.

Estimated total annual reporting burden: 700 hours.

Title: L&WCF Project Agreement and Amendment Forms.

Form(s): 10-902 and 10-902a.

OMB Number: 1024-0033.

Expiration Date: May 31, 2007.

Type of request: Grant agreement.

Description of need: Sets forth conditions of the grant used.

Frequency of collection: On occasion.

Description of respondents: State Governments, DC and Territories.

Estimated average number of respondents: 56 per year.

Estimated average number of responses: 450 year.

Estimated average time burden per response: 3 hours.

Frequency of response: 8 per respondent.

Estimated total annual reporting burden: 1,350 hours.

Title: L&WCF On-Site Inspection Report.

Form: None.

OMB Number: 1024-0034.

Expiration Date: May 31, 2007.

Type of request: Site condition/comment checklist.

Description of need: To assure program/Grant/Federal compliance.

Frequency of collection: On occasion.

Description of respondents: State Governments, DC and Territories.

Estimated average number of respondents: 56 per year.

Estimated average number of responses: 7,400 per year.

Estimated average time burden per response: 0.5 hours.

Frequency of response: 132 per respondent.

Estimated total annual reporting burden: 3,700 hours.

Title: L&WCF Conversion of Use provisions.

Form: None.

OMB Number: 1024-0047.

Expiration Date: May 31, 2007.

Type of request: Application to substitute replacement property for the funded site.

Description of need: Compliance with L&WCF Act, Section 6(f)(3).

Frequency of collection: On occasion.

Description of respondents: State Governments, DC and Territories.

Estimated average number of respondents: 56 per year.

Estimated average number of responses: 50 per year.

Estimated average time burden per response: 35 hours.

Frequency of response: Once per respondent.

Estimated total annual reporting burden: 1,750 hours.

Title: UPARR Project Performance Report.

Form: None.

OMB Number: 1024-0028

Expiration Date: September 30, 2007.

Type of request: Performance Report describing project status.

Description of need: For monitoring project status.

Frequency of collection: Annually.

Description of respondents: Urban cities and counties.

Estimated average number of respondents: 35 per year.

Estimated average number of responses: 164 per year.

Estimated average time burden per response: 1.5 hours.

Frequency of response: 4.7 per respondent.

Estimated total annual reporting burden: 246 hours.

Title: UPARR Conversion of Use Provisions.

Form: None.

OMB Number: 1024-0048.

Expiration Date: May 31, 2007.

Type of request: Application to substitute replacement property for the funded site.

Description of need: Compliance with the UPARR Act, Section 1010.

Frequency of collection: On occasion.

Description of respondents: Urban cities and countries.

Estimated average number of respondents: 3 per year.

Estimated average number of responses: 3 per year.

Estimated average time burden per response: 25 hours.

Frequency of response: Once per respondent.

Estimated total annual reporting burden: 75 hours.

Title: UPARR Project Agreement and Amendment Forms.

Form(s): 10-912 and 10-915.

OMB Number: 1024-0089.

Expiration Date: May 31, 2007.

Type of request: Grant agreement.

Description of need: Sets forth condition of the grant award.

Frequency of collection: On occasion.

Description of respondents: Urban counties and cities.

Estimated average number of respondents: 20 per year.

Estimated average number of responses: 20 per year.

Estimated average time burden per response: 1 hour.

Frequency of response: once per respondent.

Estimated total annual reporting burden: 20 hours.

Comments are invited on (1) The practical utility of the information being gathered; (2) the accuracy of the burden hour estimate; (3) ways to enhance the quality, utility, and clarity of the information to be collected, and (4) ways to minimize the burden to respondents, including use of automated information collection techniques or other forms of information technology. Before including your address, phone number, e-mail address, or other personal identifying information in your comment, you should be aware that your entire comment—including your personal identifying information—may be made publicly available at any time. While you can ask us in your comment to withhold your personal identifying information from public review, we cannot guarantee that we will be able to do so.

Dated: May 21, 2007.
Leonard E. Stowe,
NPS, Information Collection Clearance Officer.

[FR Doc. 07-2599 Filed 5-24-07; 8:45 am]

BILLING CODE 4312-53-M